DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Commercial Encryption Items Under the Jurisdiction of the Department of Commerce.

Agency Form Number: N/A.

OMB Approval Number: 0694-0104.

Type of Request: Renewal of an existing collection.

Burden: 4507 hours.

Average Time Per Response: 5 minutes to 7 hours per response.

Number of Respondents: 635 respondents.

Needs and Uses: This collection is authorized by section 5(h) of the Export Administration Act of 1979, as amended (EAA) and section 203(a)(2) of the International Emergency Economic Powers Act (IEEPA), and authorized under Section 15(b) of the EAA and Section 203(a)(1) of the IEEPA. The Export Administration Act authorizes the President to control exports of U.S. goods and technology to all foreign destinations, as necessary for the purposes of national security, foreign policy and short supply. The International Emergency Economic Powers Act authorizes the President to take actions to deal with any unusual and extraordinary threat, which has its source in whole or substantial part outside of the United States, to the national security, foreign policy, or economy of the United States. This policy has since been implemented and updated in the Export Administration Regulations (EAR). As described in these regulations, the U.S. encryption export control policy rests on three principles: Review of encryption products prior to sale, streamlined post-export reporting, and license review of certain exports of strong encryption to foreign government end-users. Consistent with these principles, national security requires that information be collected from the public as described both in this collection and in collection 0694-0088. The regulations developed by the Bureau of Industry and Security in consultation with other Federal agencies, implements the U.S. encryption export policy last revised in regulations published on December 9, 2004. This notice updates and revises the paperwork burden on the public imposed by these regulations.

Affected Public: Individuals, businesses or other for-profit institutions.

Respondent's Obligation: Mandatory.

OMB Desk Officer: David Rostker.

Copies of the above information collection proposal can be obtained by calling or writing Diana Hynek, DOC Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: July 20, 2006.
Madeleine Clayton,
Management Analyst, Office of the Chief Information Officer.

[FR Doc. E6-12212 Filed 7-28-06; 8:45 am]

BILLING CODE 3510-DT-P